DEPARTMENT OF TRANSPORTATION

Office of the Secretary

[Docket No. OST-2006-24502]

Notice of Request for Information Collection Approval

AGENCY: Office of the Secretary, Department of Transportation.

ACTION: Notice.

SUMMARY: In accordance with the Paperwork Reduction Act of 1995 (44 U.S.C. 3501 et seq.), this notice announces that the Information Collection Request abstracted below has been forwarded to the Office of Management and Budget (OMB) for approval. The ICR describes the nature of the information collection and its expected cost and burden.

The Federal Register Notice with a 60-day comment period soliciting comments on the following collection of information was published on April 19, 2006, [FR Vol. 71, No. 75, page 20154]. No comments were received.

DATE: Comments on this notice must be received by August 11, 2006: attention DOT/OST Desk Officer, Office of Information and Regulatory Affairs, Office of Management and Budget, Docket Library, Room 10102, 725 17th Street, NW., Washington, DC 20503.

FOR FURTHER INFORMATION CONTACT: Ms. Aloha Ley, Office of Aviation Analysis, X-50, Office of the Secretary, U.S. Department of Transportation, 400 Seventh Street, SW., Washington, DC 20590, (202) 366-2347.

SUPPLEMENTARY INFORMATION: Titles: (1) Application for Small Community Air Service Development Program Grant; (2) Enplanement Data form; (3) Final Report form; and (4) Grant Reimbursement form.

OMB Numbers: Existing Collection without prior OMB authorization

Affected Public: Small communities/airports seeking financial grants to improve their air service and grant recipients under the Small Community Air Service Development Program.

Total Annual Estimated Burden: 13,200 hours. This consists of a maximum of 8,000 hours for the filing of applications; 480 hours for enplanement reports; 400 hours for the filing of final reports; and 4,320 for reimbursement requests.

Comments are invited on: (a) Whether the proposed collection of information is reasonable for the proper administration of the Small Community Air Service Development Program by the Department, and (b) the accuracy of the Department's estimate of burden of the described information collection.

Issued in Washington, DC, on July 6, 2006.
Steven B. Lott,
Manager, Strategic Integration, IT Investment Management Office.

[FR Doc. E6-10918 Filed 7-11-06; 8:45 am]

BILLING CODE 4910-62-P